TENNESSEE VALLEY AUTHORITY

Sunshine Act Meeting Notice

Meeting No. 19-03

The TVA Board of Directors will hold a public meeting on August 22, 2019, in the TVA West Tower Auditorium, 400 West Summit Hill Drive, Knoxville, Tennessee. The meeting will be called to order at 9:30 a.m. ET to consider the agenda items listed below. TVA will answer questions from the news media following the Board meeting.

On August 21, the public may comment on any agenda item or subject at a board-hosted listening session which begins at 3:30 p.m. ET and will last until 5:30 p.m. Preregistration is required to address the Board.

Status: Open.

Agenda

1. Approval of minutes of the May 9, 2019, Board Meeting

2. Report from President and CEO

3. Report of the Finance, Rates, and Portfolio Committee

A. Integrated Resource Plan

B. FY 2020 Financial Plan and Budget

C. Financing authority

D. Long-term partnership option

E. Power supply arrangements with an industrial customer

F. Large generator interconnection procedures

4. Report of the Audit, Risk, and Regulation Committee

A. FY 2020 external auditor selection

B. Amendment to local power company use of revenue guidelines

5. Report of the External Relations Committee

6. Report of the Nuclear Oversight Committee

7. Report of the People and Performance Committee

A. Corporate goals

B. Compensation Plan amendments

8. Chair Report

A. Committee Assignments

9. Information Items

A. Gallatin Settlement

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 15, 2019.
Sherry A. Quirk,
General Counsel.

[FR Doc. 2019-18006 Filed 8-16-19; 11:15 am]

BILLING CODE 8120-08-P